DEPARTMENT OF ENERGY

Federal Energy Regulatory Commission

[Docket No. RP04-12-000]

Florida Gas Transmission Company; Notice of Informal Settlement Conference

April 16, 2004.

Take notice that an informal settlement conference will be convened in this proceeding commencing at 1 p.m. on Monday, April 26, 2004, and continuing at 10 a.m. on Tuesday, April 27 thru Friday, April 30, 2004, at the offices of the Federal Energy Regulatory Commission, 888 First Street, NE., Washington, DC 20426, for the purpose of exploring the possible settlement of the above-referenced dockets.

Any party, as defined by 18 CFR 385.102(c), or any participant as defined by 18 CFR 385.102(b), is invited to attend. Persons wishing to become a party must move to intervene and receive intervenor status pursuant to the Commission's regulations (18 CFR 385.214).

For additional information, please contact Hollis Alpert at 202-502-8783, hollis.alpert@ferc.gov.

Magalie R. Salas,
Secretary.

[FR Doc. E4-914 Filed 4-23-04; 8:45 am]

BILLING CODE 6717-01-P